DEPARTMENT OF EDUCATION

Proposed Waiver and Extension of the Project Period for the Literacy Information and Communication System Regional Professional Development Centers

AGENCY: Office of Career, Technical, and Adult Education, Department of Education.

ACTION: Proposed waiver and extension of the project period.

Catalog of Federal Domestic Assistance (CFDA) Number: 84.191B.

SUMMARY: The Secretary proposes to waive the requirements that generally prohibit project period extensions involving the obligation of additional Federal funds, and to extend the project period of the four currently-funded Literacy Information and Communication System (LINCS) Regional Professional Development Centers (RPDC) program grants for one year. The proposed waiver and extension would enable these grantees to receive funding for FY 2015 (through September 30, 2016), using FY 2014 funds. The Secretary proposes this action because we do not believe that it would be in the public interest to hold a LINCS RPDC competition during a period of significant change for State grantees transitioning to new program requirements under the Workforce Innovation and Opportunity Act (WIOA).

DATES: We must receive your comments on or before August 24, 2015.

ADDRESSES: Address all comments about this proposed waiver and extension of the project period to Patricia Bennett, U.S. Department of Education, 400 Maryland Avenue SW., Room 11013, Potomac Center Plaza, Washington, DC 20202-7241.

If you prefer to send your comments by email, use the following address: patricia.bennett@ed.gov. You must include the phrase “Proposed waiver and extension of the project period for LINCS RPDCs” in the subject line of your message.

FOR FURTHER INFORMATION CONTACT: Patricia Bennett by telephone at (202) 245-7758 or by email at: patricia.bennett@ed.gov.

If you use a telecommunications device for the deaf (TDD) or a text telephone (TTY), call the Federal Relay Service (FRS), toll free, at 1-800-877-8339.

SUPPLEMENTARY INFORMATION:

Invitation To Comment

We invite you to submit comments regarding this notice. We are particularly interested in receiving comments on the potential impact that this proposed project period waiver and extension might have on current LINCS RPDCs and on potential applicants that would be eligible to apply for grant awards under any new LINCS RPDC notice inviting applications, should there be one.

The following entities would be eligible to apply should the Department conduct a new competition for LINCS RPDCs:

(a) Institutions of higher education;

(b) Public or private agencies or organizations; and

(c) Consortia of entities listed in paragraphs (a) and (b).

During and after the comment period, you may inspect all public comments about this proposed waiver and extension of the project period in room 11013, Potomac Center Plaza, 550 12th Street SW., Washington, DC, between the hours of 8:30 a.m. and 4:00 p.m., Washington, DC time, Monday through Friday of each week, except Federal holidays.

Assistance to Individuals with Disabilities in Reviewing the Rulemaking Record: On request we will provide an appropriate accommodation or auxiliary aid to an individual with a disability who needs assistance to review the comments or other documents in the public rulemaking record for this notice of proposed waiver and extension of the project period. If you want to schedule an appointment for this type of aid, please contact the person listed under FOR FURTHER INFORMATION CONTACT.

Background

In FY 2011, using FY 2010 funds, we funded four LINCS RPDC grants under section 243(2)(H) of the Adult Education and Family Literacy Act (AEFLA), as authorized under title II of the Workforce Investment Act of 1998 (WIA) (20 U.S.C. 9253(2)(H)). Each RPDC served one of the following four regions:

(1) Region 1—Connecticut, Delaware, District of Columbia, Maine, Maryland, Massachusetts, New Hampshire, New Jersey, New York, Pennsylvania, Puerto Rico, Rhode Island, Vermont, and the Virgin Islands.

(2) Region 2—Alabama, Arkansas, Florida, Georgia, Kentucky, Louisiana, Mississippi, North Carolina, Oklahoma, South Carolina, Tennessee, Texas, Virginia, and West Virginia.

(3) Region 3—Illinois, Indiana, Iowa, Kansas, Michigan, Minnesota, Missouri, Nebraska, North Dakota, Ohio, South Dakota, and Wisconsin.

(4) Region 4—Alaska, Arizona, California, Colorado, Hawaii, Idaho, Montana, Nevada, New Mexico, Oregon, Utah, Washington, Wyoming, Guam, American Samoa, the Commonwealth of the Northern Mariana Islands, and the Republic of Palau.

Through the LINCS RPDC grants, established under WIA, we supported evidence-based virtual or in-person adult education professional development (AEPD) activities to assist educators who provide adult education services ¹ or adult education instruction ² to adult learners (adult educators).

¹ Adult education services (e.g., career counseling, transportation counseling, education counseling) are provided to adult learners by educators who may include staff of eligible providers identified in section 203(5) of AEFLA under WIA, as well as State staff responsible for the implementation of adult education programs.

² Adult education instruction (e.g., instruction in basic literacy, mathematics, and English language skills) is provided to adult learners by educators who may include adult education teachers and other instructional personnel of eligible providers identified in section 203(5) of AEFLA under WIA.

In addition, the LINCS RPDCs supported each eligible agency responsible for administering or supervising policy for adult education and literacy programs under section 203(4) of AEFLA ³ under WIA (eligible agency), and adult education and related organizations within each State ⁴ and outlying area.⁵

³ Section 203(4) of AEFLA under WIA defines the term “eligible agency” as the sole entity or agency in a State or an outlying area responsible for administering or supervising policy for adult education and literacy in the or outlying area, respectively, consistent with the law of the State or outlying area, respectively.

⁴ See section 203(17) of AEFLA under WIA.

⁵ See section 203(14) of AEFLA under WIA.

The RPDCs provided substantial and direct operational involvement in the management of project implementation and on plans for AEPD and project activities, including by facilitating the collaboration between grantees and the Department's LINCS Resource Collection contractor and the LINCS technical services contractor. The LINCS RPDCs have also provided high quality professional development information and assistance to States in support of the transition to new AEFLA program requirements under the Workforce Innovation and Opportunity Act (WIOA), which was signed into law on July 22, 2014 (29 U.S.C. 3101 et seq.).

The project period for the four LINCS RPDC grantees that received awards under the FY 2011 competition was for 36 months, through FY 2013, to end on September 30, 2014, and the Secretary had planned to hold a competition to award new grants. However, we determined that holding an RPDC competition for FY 2014—the same year in which the Department's LINCS Resource Collection contract and the LINCS technical services contract would end—was not in the public interest because it would have disrupted the continuity and stability of services that we provided to adult educators and thereby would have negatively impacted service delivery to our adult education customers.

On June 2, 2014, we published in the Federal Register a final waiver and extension for the initial 36-month grant projects under the LINCS RPDC program. In that notice the Secretary waived the restriction against project period extensions involving the obligation of additional Federal funds and extended for an additional 12 months—for FY 2014 (through September 30, 2015), using FY 2013 funds—the project period of the four LINCS RPDC grants issued under the FY 2011 competition. (See 79 FR 31315, as corrected in the Correction Notice of Final Waiver and Extension of the Project Period for the LINCS RPDCs published elsewhere in this issue of the Federal Register.) This one-year extension of the LINCS RPDC project period through September 30, 2015, ensured seamless technical assistance service delivery to our adult education customers.

In this notice of proposed waiver and extension, the Secretary proposes to extend the project period of the current LINCS RPDC grants for an additional 12 months, for FY 2015 (through September 30, 2016), using FY 2014 funds. The Secretary is proposing this action in light of the reauthorization of AEFLA by title II of WIOA and the resulting period of significant change for State grantees in transitioning from the program requirements in AEFLA as authorized under WIA to the new program requirements in AEFLA as authorized under WIOA. This action is also consistent with the transition authority in section 503(c) of WIOA, 29 U.S.C. 3343(c), which states that the Secretary shall take such action as determined to be appropriate to provide for the orderly transition from any authority under AEFLA (20 U.S.C. 9201 et seq.), as in effect on the day before the date of enactment of WIOA, to any authority under AEFLA, as amended by WIOA. The extension of the four current LINCS RPDCs will provide continuity for States, minimize disruption during the critical transition year, when support and technical assistance from the four experienced LINCS RPDC grantees would be critical, and align a LINCS RPDC grant competition with the full implementation of WIOA.

If the waiver of 34 CFR 75.261(a) and (c)(2) that we propose in this notice is announced by the Department in a final notice, the requirements applicable to continuation awards for current LINCS RPDC grantees and the requirements in 34 CFR 75.253 would apply to any continuation awards sought by current LINCS RPDC grantees.

If we announce this proposed waiver and extension of the project period as final, we would make continuation awards based on information that each grantee had provided, indicating that it is making substantial progress performing its LINCS RPDC grant activities based on the requirements in the notice inviting applications, and based on the regulations in 34 CFR 75.253.

Any activities to be carried out during the continuation year must be consistent with, or be a logical extension of, the scope, goals, and objectives of each grantee's application as approved in the FY 2011 LINCS RPDC competition. Under this proposed waiver and extension, the project period for current LINCS RPDC grantees would be extended through FY 2015 (ending September 30, 2016).

Regulatory Flexibility Act Certification

The Secretary certifies that the proposed waiver and extension of the project period and the activities required to support the additional year of funding would not have a significant economic impact on a substantial number of small entities. The small entities that would be affected by this proposed waiver and extension of the project period are the four currently-funded LINCS RPDC grantees and any potential eligible applicants for the LINCS RPDC grants.

The proposed waiver and extension of these current projects would involve minimal compliance costs, and the activities required to support the additional year of funding would not impose additional regulatory burdens or require unnecessary Federal supervision.

Paperwork Reduction Act of 1995

This notice of proposed waiver and extension of the project period does not contain any information collection requirements.

Intergovernmental Review

The LINCS RPDC program is subject to Executive Order 12372 and the regulations in 34 CFR part 79. Information about Intergovernmental Review of Federal Programs under Executive Order 12372 is in the application package for this competition.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 29 U.S.C. 3332(c)(2)(G).

Dated: July 21, 2015.
Johan E. Uvin,
Acting Assistant Secretary for Career, Technical, and Adult Education.

[FR Doc. 2015-18223 Filed 7-23-15; 8:45 am]

BILLING CODE 4000-01-P